DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov. (Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Arkansas: Benton (FEMA Docket No.: B-1810). | City of Rogers (17-06-4054P). | The Honorable Greg Hines, Mayor, City of Rogers, 301 West Chestnut Street, Rogers, AR 72756. | City Hall, 301 West Chestnut Street, Rogers, AR 72756. | May 14, 2018 | 050013
Colorado:
Boulder (FEMA Docket No.: B-1810). | City of Boulder (17-08-0797P). | Ms. Jane S. Brautigam, Manager, City of Boulder, P.O. Box 791, Boulder, CO 80306. | City Hall, 1739 Broadway, 3rd Floor, Boulder, CO 80306. | May 31, 2018 | 080024
Douglas (FEMA Docket No.: B-1810). | Town of Parker (17-08-1041P). | The Honorable Mike Waid, Mayor, Town of Parker, 20120 East Main Street, Parker, CO 80138. | Town Hall, 20120 East Main Street, Parker, CO 80138. | May 18, 2018 | 080310
Douglas (FEMA Docket No.: B-1810). | Unincorporated areas of Douglas County (17-08-1041P). | The Honorable Roger Partridge, Chairman, Douglas County Board of Commissioners, 100 3rd Street, Castle Rock, CO 80104. | Douglas County Planning Division, 100 3rd Street, Castle Rock, CO 80104. | May 18, 2018 | 080049
El Paso (FEMA Docket No.: B-1810). | City of Colorado Springs (17-08-1081P). | The Honorable John Suthers, Mayor, City of Colorado Springs, 30 South Nevada Avenue, Suite 601, Colorado Springs, CO 80903. | City Hall, 30 South Nevada Avenue, Colorado Springs, CO 80903. | May 17, 2018 | 080060
Connecticut:, Fairfield (FEMA Docket No.: B-1816). | City of Stamford (18-01-0055P). | The Honorable David Martin, Mayor, City of Stamford, 888 Washington Boulevard, Stamford, CT 06904. | City Hall, 888 Washington Boulevard, Stamford, CT 06904. | May 24, 2018 | 090015
Florida:
Charlotte (FEMA Docket No.: B-1816). | Unincorporated areas of Charlotte County (17-04-7102P). | The Honorable Bill Truex, President, Charlotte County Board of Commissioners, 18500 Murdock Circle, Suite 536, Port Charlotte, FL 33948. | Charlotte County Community Development Department, 18500 Murdock Circle, Port Charlotte, FL 33948. | May 25, 2018 | 120061
Hillsborough (FEMA Docket No.: B-1816). | Unincorporated areas of Hillsborough County (17-04-5216P). | The Honorable Sandra Murman, Chair, Hillsborough County Board of Commissioners, 601 East Kennedy Boulevard, Tampa, FL 33602. | Hillsborough County Building Services Division, 601 East Kennedy Boulevard, Tampa, FL 33602. | May 21, 2018 | 120112
Lee (FEMA Docket No.: B-1810). | City of Sanibel (17-04-6485P). | The Honorable Kevin Ruane, Mayor, City of Sanibel, 800 Dunlop Road, Sanibel, FL 33957. | Planning and Code Enforcement Department, 800 Dunlop Road, Sanibel, FL 33957. | May 10, 2018 | 120402
Orange (FEMA Docket No.: B-1810). | City of Orlando (17-04-3609P). | The Honorable Buddy Dyer, Mayor, City of Orlando, P.O. Box 4990, Orlando, FL 32802. | City Hall, 400 South Orange Avenue, Orlando, FL 32801. | May 16, 2018 | 120186
Polk (FEMA Docket No.: B-1810). | City of Lakeland (17-04-7441P). | The Honorable William Mutz, Mayor, City of Lakeland, 228 South Massachusetts Avenue, Lakeland, FL 33801. | Public Works Department, 407 Fairway Avenue, Lakeland, FL 33801. | May 31, 2018 | 120267
Sarasota (FEMA Docket No.: B-1816). | Unincorporated areas of Sarasota County (18-04-0312P). | The Honorable Nancy Detert, Chair, Sarasota County Board of Commissioners, 1660 Ringling Boulevard, Sarasota, FL 34236. | Sarasota County Planning and Development Services Department, 1001 Sarasota Center Boulevard, Sarasota, FL 34240. | May 24, 2018 | 125144
Georgia:
Floyd (FEMA Docket No.: B-1810). | City of Cave Spring (17-04-3382P). | The Honorable Dennis Shoaf, Mayor, City of Cave Spring, 10 Georgia Avenue, Cave Spring, GA 30124. | City Hall, 10 Georgia Avenue, Cave Spring, GA 30124. | May 11, 2018 | 130080
Floyd (FEMA Docket No.: B-1810). | Unincorporated areas of Floyd County (17-04-3382P). | The Honorable Rhonda Wallace, Chair, Floyd County Board of Commissioners, 12 East 4th Avenue, Rome, GA 30161. | Floyd County Building Inspections Department, 12 East 4th Avenue, Rome, GA 30161. | May 11, 2018 | 130079
Richmond (FEMA Docket No.: B-1816). | Augusta-Richmond County (17-04-3443P). | The Honorable Hardie Davis, Jr., Mayor, Augusta-Richmond County, 535 Telfair Street, Augusta, GA 30901. | Augusta-Richmond County Planning and Development Department, 535 Telfair Street, Augusta, GA 30901. | May 25, 2018 | 130158
Kentucky: Fayette (FEMA Docket No.: B-1810). | Lexington-Fayette Urban County Government (17-04-5322P). | The Honorable Jim Gray, Mayor, Lexington-Fayette Urban County Government, 200 East Main Street, Lexington, KY 40507. | Planning Division, 101 East Vine Street, Lexington, KY 40507. | May 16, 2018 | 210067
Maine: Oxford (FEMA Docket No.: B-1810). | Town of Hartford (18-01-0057P). | The Honorable Lee Holman, Chair, Town of Hartford Board of Selectmen, 1196 Main Street, Hartford, ME 04220. | Town Hall, 1196 Main Street, Hartford, ME 04220. | May 10, 2018 | 230334
Montana: Ravalli (FEMA Docket No.: B-1810). | Unincorporated areas of Ravalli County (17-08-0795P). | The Honorable Greg Chilcott, Chairman, Ravalli County Board of Commissioners, 215 South 4th Street, Suite A, Hamilton, MT 59840. | Ravalli County Planning Department, 215 S 4th Street, Suite F, Hamilton, MT 59840. | May 14, 2018 | 300061
North Carolina: Mecklenburg (FEMA Docket No.: B-1810). | Town of Huntersville (17-04-6264P). | The Honorable John Aneralla, Mayor, Town of Huntersville, P.O. Box 664, Huntersville, NC 28070. | Planning Department, 105 Gilead Road, 3rd Floor, Huntersville, NC 28078. | May 18, 2018 | 370478
South Carolina: Jasper (FEMA Docket No.: B-1816). | City of Hardeeville (17-04-7055P). | The Honorable Harry Williams, Mayor, City of Hardeeville, 205 Main Street, Hardeeville, SC 29927. | Building Department, 205 Main Street, Hardeeville, SC 29927. | May 24, 2018 | 450113
Texas:
Collin (FEMA Docket No.: B-1816). | City of McKinney (17-06-4217P). | The Honorable George Fuller, Mayor, City of McKinney, P.O. Box 517, McKinney, TX 75070. | Engineering Department, 221 North Tennessee Street, McKinney, TX 75069. | May 21, 2018 | 480135
Collin (FEMA Docket No.: B-1816). | City of Plano (17-06-4151P). | The Honorable Harry LaRosiliere, Mayor, City of Plano, 1520 K Avenue, Plano, TX 75074. | Engineering Department, 1520 K Avenue, Plano, TX 75074. | May 21, 2018 | 480140
Collin (FEMA Docket No.: B-1816). | City of Richardson (17-06-4151P). | The Honorable Paul Voelker, Mayor, City of Richardson, 411 West Arapaho Road, Richardson, TX 75080. | Capital Projects Department, 411 West Arapaho Road, Richardson, TX 75080. | May 21, 2018 | 480184
Denton (FEMA Docket No.: B-1810). | City of Carrollton (17-06-2506P). | The Honorable Kevin Falconer, Mayor, City of Carrollton, P.O. Box 110535, Carrollton, TX 75011. | City Hall, 1945 East Jackson Street, Carrollton, TX 75006. | May 10, 2018 | 480167
Denton (FEMA Docket No.: B-1810). | City of The Colony (17-06-2506P). | The Honorable Joe McCourry, Mayor, City of The Colony, 6800 Main Street, The Colony, TX 75056. | City Hall, 6800 Main Street, The Colony, TX 75056. | May 10, 2018 | 481581
Rockwall (FEMA Docket No.: B-1810). | City of Rockwall (17-06-3552P). | The Honorable Jim Pruitt, Mayor, City of Rockwall, 385 South Goliad Street, Rockwall, TX 75087. | Public Works Department, 385 South Goliad Street, Rockwall, TX 75087. | May 14, 2018 | 480547
Smith (FEMA Docket No.: B-1810). | City of Tyler (17-06-1762P). | The Honorable Martin Heines, Mayor, City of Tyler, P.O. Box 2039, Tyler, TX 75710. | Development Services Department, 423 West Ferguson Street, Tyler, TX 75702. | May 10, 2018 | 480571
Tarrant (FEMA Docket No.: B-1810). | City of Fort Worth (17-06-2261P). | The Honorable Betsy Price, Mayor, City of Fort Worth, 200 Texas Street, Fort Worth, TX 76102. | Department of Transportation and Public Works, 200 Texas Street, Fort Worth, TX 76102. | May 17, 2018 | 480596
Tarrant (FEMA Docket No.: B-1810). | City of Fort Worth (17-06-4076P). | The Honorable Betsy Price, Mayor, City of Fort Worth, 200 Texas Street, Fort Worth, TX 76102. | Department of Transportation and Public Works, 200 Texas Street, Fort Worth, TX 76102. | May 24, 2018 | 480596
Tarrant (FEMA Docket No.: B-1810). | City of Fort Worth (17-06-4079P). | The Honorable Betsy Price, Mayor, City of Fort Worth, 200 Texas Street, Fort Worth, TX 76102. | Department of Transportation and Public Works, 200 Texas Street, Fort Worth, TX 76102. | May 24, 2018 | 480596
Tarrant (FEMA Docket No.: B-1810). | City of Haltom City (17-06-4081P). | The Honorable David Averitt, Mayor, City of Haltom City, 5024 Broadway Avenue, Haltom City, TX 76117. | Public Works Services Department, 4200 Hollis Street, Haltom City, TX 76111. | May 14, 2018 | 480599
Utah: Washington (FEMA Docket No.: B-1810). | City of St. George (17-08-0793P). | The Honorable Jon Pike, Mayor, City of St. George, 175 East 200 North, St. George, UT 84770. | City Hall, 175 East 200 North, St. George, UT 84770. | May 25, 2018 | 490177
Virginia:
Louisa (FEMA Docket No.: B-1803). | Unincorporated areas of Louisa County (17-03-2337P). | Mr. Christian Goodwin, Louisa County Administrator, P.O. Box 160, Louisa, VA 23093. | Louisa County Department of Community Development, 1 Woolfolk Avenue, Louisa, VA 23093. | May 14, 2018 | 510092
Orange (FEMA Docket No.: B-1803). | Unincorporated areas of Orange County (17-03-2337P). | Mr. R. Bryan David, Orange County Administrator, P.O. Box 111, Orange, VA 22960. | Orange County Department of Planning and Zoning, 128 West Main Street, Orange, VA 22960. | May 14, 2018 | 510203
Spotsylvania (FEMA Docket No.: B-1803). | Unincorporated areas of Spotsylvania County (17-03-2337P). | Mr. Mark B. Taylor, Spotsylvania County Administrator, 9104 Courthouse Road, Spotsylvania, VA 22553. | Spotsylvania County Zoning Department, 9019 Old Battlefield Boulevard, Suite 300, Spotsylvania, VA 22553. | May 14, 2018 | 510308

[FR Doc. 2018-13744 Filed 6-26-18; 8:45 am]

BILLING CODE 9110-12-P